FEDERAL COMMUNICATIONS COMMISSION

47 CFR Part 2

[ET Docket No. 03-201; FCC 04-165]

Unlicensed Devices and Equipment Approval

AGENCY: Federal Communications Commission.

ACTION: Final rule; announcement of effective date.

SUMMARY: The Commission adopted rules which required that all paper filings required in 47 CFR 2.913(c), 2.926(c) introductory text, and 2.929(c) and (d) must be filed electronically via the Internet on FCC Form 731. The rules required Office of Management and Budget approval and the Commission stated in its previous Federal Register publication that it would announce the effective date of that section when approved. This document announces the effective date of §§ 2.913(c), 2.926(c) introductory text, and 2.929(c) and (d).

DATES: The amendment to 47 CFR 2.913(c), 2.926(c) introductory text, and 2.929(c) and (d) published at 69 FR 54027, September 7, 2004, became effective on December 7, 2005.

FOR FURTHER INFORMATION CONTACT: Nancy J. Brooks, (202) 418-2454, Office of Engineering and Technology.

SUPPLEMENTARY INFORMATION: The FCC published a document in the Federal Register 69 FR 54027, September 7, 2004, that sets forth an effective date of October 7, 2004, except for amendment to §§ 2.913(c), 2.926(c) introductory text, and 2.929(c) and (d), which contained information collection requirements that had not been approved by the Office of Management and Budget. The document stated that the Commission will publish a document in the Federal Register announcing the effective date for §§ 2.913(c), 2.926(c) introductory text, and 2.929(c) and (d) and the information collection contained therein. On December 7, 2005, the Office of Management and Budget (OMB) approved the information collection requirements contained 47 CFR 2.913(c), 2.926(c) introductory text, and 2.929(c) and (d) pursuant to OMB Control No. 3060-0057. Accordingly, the information collection requirement contained in theses rule became effective on December 7, 2005. The expiration date for the information collection requirement will be December 31, 2008.

Federal Communications Commission.
Marlene H. Dortch,
Secretary.

[FR Doc. 06-2971 Filed 3-28-06; 8:45 am]

BILLING CODE 6712-01-P